DEPARTMENT OF LABOR

Employment and Training Administration

[TA-W-91,535]

General Electric Company, GE Transportation Division, Including Workers Whose Wages Were Reported Through TAD PGS Inc. Including On-Site Leased Workers From Adecco USA, TCS (TATA), Chemetall US Inc., AVI, Carehere, Climatech Inc., G4S Secure Solutions, OMH HealthEdge Holdings Inc., Phoenix Llc, Simmers Crane, AND Unitek Technical Services, 1503 West Main Street and 660 Barkeyville Road, Grove City, Pennsylvania; Amended Certification Regarding Eligibility To Apply for Worker Adjustment Assistance

In accordance with Section 223 of the Trade Act of 1974, as amended (“Act”), 19 U.S.C. 2273, the Department of Labor issued a Certification of Eligibility to Apply for Worker Adjustment Assistance on April 22, 2016, applicable to workers of General Electric Company, GE Transportation Division, including on-site leased workers from Adecco USA, TCS (TATA), Chemetall US Inc., AVI, Carehere, Climatech Inc., G4S Secure Solutions, OMH HealthEdge Holdings Inc., Phoenix LLC, Simmers Crane, and Unitek Technical Services, 1503 West Main Street and 660 Barkeyville Road, Grove City, Pennsylvania. The Department's notice of determination was published in the Federal Register on May 24, 2016 (81 FR 32785).

At the request of the state workforce official, the Department reviewed the certification for workers of the subject firm. The workers are engaged in activities related to the production of diesel locomotive engines, diesel marine and stationary engines. New information shows that some workers at General Electric Company had their wages reported through TAD PGS Inc.

The intent of the Department's certification is to include all workers of the subject firm who were adversely affected as Supplier to a firm that employed a group of workers who received a certification of eligibility under to apply for Trade Adjustment Assistance.

Accordingly, the Department is amending this certification to properly reflect this matter.

The amended notice applicable to TA-W-91,535 is hereby issued as follows:

All workers of General Electric Company, GE Transportation Division, including workers whose wages were reported through TAD PGS Inc., including on-site leased workers from Adecco USA, TCS (TATA), Chemetall US Inc., AVI, Carehere, Climatech Inc., G4S Secure Solutions, OMH HealthEdge Holdings Inc., Phoenix LLC, Simmers Crane, and Unitek Technical Services, 1503 West Main Street and 660 Barkeyville Road, Grove City, Pennsylvania, who became totally or partially separated from who became totally or partially separated from employment on or after March 1, 2015 through April 22, 2018, and all workers in the group threatened with total or partial separation from employment on date of certification through two years from the date of certification, are eligible to apply for adjustment assistance under Chapter 2 of Title II of the Trade Act of 1974, as amended.

Signed in Washington, DC, this 22nd day of August 2016.
Hope D. Kinglock,
Certifying Officer, Office of Trade Adjustment Assistance.

[FR Doc. 2016-23026 Filed 9-23-16; 8:45 am]

BILLING CODE P